DEPARTMENT OF HOMELAND SECURITY

Coast Guard

33 CFR Part 165

[Docket No. USCG-2010-1112]

RIN 1625-AA00

Safety Zone; Lake Mead Intake Construction, Lake Mead, Boulder City, NV

AGENCY: Coast Guard, DHS.

ACTION: Temporary final rule.

SUMMARY: The Coast Guard is establishing a safety zone on the navigable waters of Lake Mead in support of the construction project for Lake Mead's Intake #3 during the first 6 months of 2011. Blasting will take place at regular intervals at the location and in the manner set forth herein. This safety zone is necessary to ensure unauthorized personnel and vessels remain safe by keeping clear of the hazardous area during blasting operations. Persons and vessels are prohibited from entering into, transiting through, or anchoring within this safety zone unless authorized by the Captain of the Port (COTP) or his designated representative.

DATES: This rule is effective in the CFR on January 14, 2011 through June 30, 2011. This rule is effective with actual notice for purposes of enforcement from January 1, 2011 until June 30, 2011.

ADDRESSES: Documents indicated in this preamble as being available in the docket are part of docket USCG-2010-1112 and are available online by going to http://www.regulations.gov, inserting USCG-2010-1112 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail BM1 Shane Jackson, Waterways Management, U.S. Coast Guard Sector San Diego, Coast Guard; telephone 619-278-7267, e-mail Shane.E.Jackson@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because such publication would be impractical given the timing of the construction. Immediate action is necessary to ensure the safety of commercial and recreational vessels in the vicinity of any blasting on the dates and times this rule will be in effect.

Under 5 U.S.C. 553(d)(3), the Coast Guard finds that good cause exists for making this rule effective less than 30 days after publication in the Federal Register. Delay in the effective date will be contrary to the public interest. Immediate action is needed to ensure public safety in the vicinity of blasting activities.

Background and Purpose

Vegas Tunnel Construction will be conducting intermittent blasting operations for the placement of a water intake pipe in Lake Mead during the first 6 months of 2011. A safety zone is necessary to ensure unauthorized personnel and vessels remain safe by keeping clear of the hazardous area during blasting operations.

Discussion of Rule

The Coast Guard is establishing a safety zone from January 1, 2011 through June 30, 2011. The safety zone will be enforced only during blasting operations, which will occur weekly at 8 a.m. and 11 a.m., Mondays through Thursdays, and 8 a.m. on Fridays. Operations will be preceded by a local Broadcast Notice to Mariners at least one hour prior to the commencement of each blast. In the event additional blasts are required due to the needs of the construction company, the public will be notified as soon as practicable, but in no event less than one hour prior to blasting.

The limits of the safety zone will include the navigable waters within a 1300 foot radius of construction vessels during transit and while at the blast site located at approximately 36°05′24″ N, 114°45′60″ W. This safety zone is necessary to ensure unauthorized personnel and vessels remain safe by keeping clear of the hazardous area during blasting activities. Persons and vessels are prohibited from entering into, transiting through, or anchoring within this safety zone unless authorized by the Captain of the Port (COTP) or his designated representative.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This determination is based on the size and location of the safety zone. The safety zone is a small zone in a wide area of Lake Mead, and it will only be enforced intermittently. Commercial and recreational vessels will not be allowed to transit through the safety zone while blasting operations are being conducted. However, these vessels will be able to travel around the safety zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit or anchor in the vicinity of Lake Mead Intake #3 (approximately 36°05′24″ N, 114°45′60″ W) during blasting operations from January 1, 2011 through June 30, 2011.

This safety zone will not have a significant economic impact on a substantial number of small entities for the following reasons. This rule will be enforced only when blasting work is actively being conducted. Vessel traffic can pass safely around the zone. Before the effective period, the construction company will issue a Broadcast Notice to Mariners (BNM) at least one hour prior to the beginning of blasting and the enforcement of this zone.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction. This rule involves the establishment of a safety zone.

An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295; 116 Stat. 2064; Department of Homeland Security Delegation No. 0170.1.

2. Add § 165.T11-387 to read as follows:

§ 165.T11-387 Safety Zone; Lake Mead Intake Construction; Lake Mead, Boulder City, NV

(a) Location. The limits of the safety zone will include the navigable waters of Lake Mead within a 1300 foot radius of the construction vessels working on Lake Mead Intake #3, located at approximately 36°05′24″ N, 114°45′60″ W.

(b) Enforcement Period. This section will be in effect from January 1, 2011 through June 30, 2011. The safety zone will only be enforced during blasting operations. Blasting operations will occur weekly at 8 a.m. and 11 a.m., Mondays through Thursdays, and at 8 a.m. on Fridays. The Coast Guard will publish a Local Notice to Mariners before the rule takes effect. The construction crew will notify the public via Broadcast Notice to Mariners at least one hour prior to commencement of each blasting operation. In the event additional blasts are required due to the needs of the construction company, the public will be notified as soon as practicable, but in no event less than one hour prior to blasting. If blasting concludes prior to the scheduled termination time, the COTP will cease enforcement of this safety zone and a Broadcast Notice to Mariners will be issued to notify the public that enforcement has ended.

(c) Definitions. The following definitions apply to this section:

(1) Designated representative means Commissioned, Warrant, or Petty Officers of the Coast Guard, Coast Guard Auxiliary, or local, state, and federal law enforcement vessels who have been authorized to act on the behalf of the COTP.

(2) Unauthorized personnel and vessels, means any civilian boats, fishermen, divers, and swimmers.

(d) Regulations. (1) Entry into, transit through or anchoring within this safety zone is prohibited unless authorized by the COTP San Diego or his designated representative.

(2) Unauthorized personnel and vessels wishing to transit through the safety zone may request authorization to do so from the COTP San Diego or his designated representative using VHF-FM Channel 16, or telephone number (619) 278-7033.

(3) Vessels involved in construction operations are allowed within the confines of the established safety zone.

(4) All persons and vessels shall comply with the instructions of the Coast Guard COTP or his designated representative.

(5) Upon being hailed by U.S. Coast Guard or other official personnel by siren, radio, flashing light, or other means, the operator of a vessel shall proceed as directed.

(6) The Coast Guard may be assisted by other federal, state, or local agencies.

Dated: December 29, 2010.
P.J. Hill,
Commander, U.S. Coast Guard, Acting Captain of the Port San Diego.

[FR Doc. 2011-692 Filed 1-13-11; 8:45 am]

BILLING CODE 9110-04-P